DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of January 2006.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Affirmative Determinations for Worker Adjustment Assistance

The following certifications have been issued; the date following the company name and location of each determination references the impact date for all workers of such determination.

The following certifications have been issued. The requirements of (a)(2)(A) (increased imports) of Section 222 have been met.

TA-W-58,483; Reed and Barton Corporation, Silversmiths Div., Taunton, MA, December 7, 2004.

TA-W-58,520; Calley and Currier Company, Bristol, NH, January 23, 2006.

TA-W-58,598; Springs Global US, Inc., Fort Mill Executive Off., Close D. Center, Fort Mill, SC, January 6, 2005.

TA-W-58,439; Hart and Cooley—Milcor, Including Spherion, Inc., Lima, OH, “Workers engaged in the production of registers (grilles)” November 20, 2004.

TA-W-58,442; Weyerhaeuser Company, Large Log Mill, Aberdeen, WA, November 21, 2004.

TA-W-58,492; Ormet Aluminum Mill Products, Hannibal Rolling Mill, Hannibal, OH, December 9, 2004.

The following certifications have been issued. The requirements of (a)(2)(B) (shift in production) of section 222 have been met.

TA-W-58,495; Hoover Company (The), Floorcare Div., Main Plant, North Canton, OH, August 28, 2005.

TA-W-58,495A; Hoover Company (The), Floorcare Div., Plant #2, Canton, OH, August 28, 2005.

TA-W-58,495B; Hoover Company (The), Floorcare Div., Distribution Center, Canton, OH, August 28, 2005.

TA-W-58,511; Kessler Industries, Inc., El Paso, TX, December 14, 2004.

TA-W-58,523; Jasco Knitting Corp., Div. of Jasco Fabrics Inc., Linden, NJ, December 6, 2004.

TA-W-58,527; Techpack America Cosmetic Packaging, LP, Div. of Alcan, Morristown, TN, December 20, 2004.

TA-W-58,528; Tyco Electronics—GADAN, Electromechanical Business Unit, Franklin, KY, December 23, 2005.

TA-W-58,537; Leach Company, Inc., Federal Signal, Refuse Division, Appleton, WI, December 22, 2004.

TA-W-58,568; ARC Automotive, Inc., Div. of the Sequa Corp., Camden, AR, January 3, 2005.

TA-W-58,593; Pliana, Inc., Charlotte, NC, January 6, 2005.

TA-W-58,613; Olon Industries, Atlanta, GA, January 3, 2005.

TA-W-58,616; Linn Benton Community College, At Hewlett-Packard Company, Corvallis, OR, January 10, 2005.

TA-W-58,667; Kimberly-Clark, Neenah South Plant, Neenah, WI, January 18, 2005.

TA-W-58,669; Franklin Electric Company, Siloam Springs, AR, January 18, 2005.

The following certification has been issued. The requirement of supplier to a trade certified firm has been met.

TA-W-58,647; American National Rubber, Louisa Division, Louisa, KY, January 13, 2005.

TA-W-58,524; Hi-Tech Plastics, Chesapeake Div., Cambridge, MD, July 23, 2005.

TA-W-58,590; Groveton Paper Board, Inc., Groveton, NH, January 5, 2005.

The following certification has been issued. The requirement of downstream producer to a trade certified firm has been met.

None.

Negative Determinations for Worker Adjustment Assistance

In the following cases, the investigation revealed that the criteria for eligibility have not been met for the reasons specified.

The investigation revealed that criterion (a)(2)(A)(I.A) and (a)(2)(B)(II.A) (no employment decline) has not been met.

TA-W-58,518; Wyeth Pharmaceutcials, Wyeth Research Div., Chazy, NY.

TA-W-58,591; Western Textile Products Co., Piedmont, SC.

The investigation revealed that criteria (a)(2)(A)(I.B.) (Sales or production, or both, did not decline) and (a)(2)(B)(II.B) (shift in production to a foreign country) have not been met.

TA-W-58,567; Moldex Tool, Meadville, PA.

TA-W-58,584; Vaughan Furniture Co., Inc., E.C. Dodson Plant, Galax, VA.

TA-W-58,439; Hart & Cooley-Milcor, Including Spherion, Inc., Lima, OH “Workers engaged in the production of access doors”

The investigation revealed that criteria (a)(2)(A)(I.C.) (increased imports) and (a)(2)(B)(II.B) (No shift in production to a foreign country) have not been met.

TA-W-58,378; Hoffmaster, Fonda Group, In., A Solocup Company, Glens Falls, NY.

TA-W-58,453; Leggett and Platt Cedar city, Div. of Leggett and Platt, Inc., Cedar City, UT.

TA-W-58,540; Cytech Hardwoods, Inc., Amsterdam, NY.

TA-W-58,557; Dannex Printing Corporation, Wood-Ridge, NJ.

TA-W-58,592; Stratcor, Inc., Subsidiary of Strategic Minerals Corporation, Niagara Falls, NY.

The investigation revealed that criteria (a)(2)(A)(I.C.) (Increased imports and (a)(2)(B)(II.C) (has shifted production to a foreign country) have not been met.

None.

The workers firm does not produce an article as required for certification under section 222 of the Trade Act of 1974.

TA-W-58,429; Agilent Technologies, Inc., Global Infrastructure Org., Colorado Springs, CO.

TA-W-58,555; Penske Logistics, General Motors, Oklahoma City, OK.

TA-W-58,607; Kellwood Company, Morgantown Distribution Ctr., Morgantown, KY.

TA-W-58,620; Bankers Trust Services, Deutsche Bank Services Tennessee, Inc, New York, NY.

The investigation revealed that criteria (2) has not been met. The workers firm (or subdivision) is not a supplier or downstream producer to trade-affected companies.

TA-W-58,529; Collins and Aikman, Oklahoma City, OK.

Affirmative Determinations for Alternative Trade Ajdustment Assistance

In order for the Division of Trade Adjustment Assistance to issued a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-58,483; Reed and Barton Corporation, Silversmiths Div., Taunton, MA, December 7, 2004.

TA-W-58,520; Calley and Currier Company, Bristol, NH, January 23, 2006.

TA-W-58,598; Springs Global US, Inc., Fort Mill Executive Off., Close Dev. Center, Fort Mill, SC, January 6, 2005.

TA-W-58,439; Hart and Cooley—Milcor, Including Spherion, Inc., Lima, OH, “workers engaged in the production of registers (grilles)” November 20, 2004.

TA-W-58,442; Weyerhaeuser Company, Large Log Mill, Aberdeen, WA, November 21, 2004.

TA-W-58,492; Ormet Aluminum Mill Products, Hannibal Rolling Mill, Hannibal, OH, December 9, 2004.

TA-W-58,495; Hoover Company (The), Floorcare Div., Main Plant, North Canton, OH, August 28, 2005.

TA-W-58,495A; Hoover Company (The), Floorcare Div., Plant #2, Canton, OH, August 28, 2005.

TA-W-58,495B; Hoover Company (The), Floorcare Div., Distribution Center, Canton, OH, August 28, 2005.

TA-W-58,511; Kessler Industries, Inc., El Paso, TX, December 14, 2004.

TA-W-58,523; Jasco Knitting Corp., Div. of Jasco Fabrics Inc., Linden, NJ, December 6, 2004.

TA-W-58,527; Techpack America Cosmetic Packaging, LP, Div. of Alcan, Morristown, TN, December 20, 2004.

TA-W-58,528; Tyco Electronics—GADAN, Electromechanical Business Unit, Franklin, KY, December 23, 2005.

TA-W-58,593; Pliana, Inc., Charlotte, NC, January 6, 2005.

TA-W-58,613; Olon Industries, Atlanta, GA, January 3, 2005.

TA-W-58,667; Kimberly-Clark, Neenah South Plant, Neenah, WI, January 18, 2005.

TA-W-58,669; Franklin Electric Company, Siloam Springs, AR, January 18, 2005.

TA-W-58,647; American National Rubber, Louisa Division, Louisa, KY, January 13, 2005.

TA-W-58,524; Hi-Tech Plastics, Chesapeake Div., Cambridge, MD, July 23, 2005.

TA-W-58,590; Groveton Paper Board, Inc., Groveton, NH, January 5, 2005.

Negative Determinations For Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of section 246(a)(3)(ii) have not been met for the reasons specified.

Since the workers are denied eligibility to apply for TAA, the workers cannot be certified eligible for ATAA.

TA-W-58,518; Wyeth Pharmaceuticals, Wyeth Research Div., Chazy, NY.

TA-W-58,591; Western Textile Products Co., Piedmont, SC.

TA-W-58,584; Vaughan Furniture Co., Inc., E.C. Dodson Plant, Galax, VA.

TA-W-58,453; Leggett and Platt Cedar City, Div. of Leggett and Platt, Inc., Cedar City, UT.

TA-W-58,540; Cytech Hardwoods, Inc., Amsterdam, NY.

TA-W-58,557; Dannex Printing Corporation, Wood-Ridge, NJ.

TA-W-58,592; Stratcor, Inc., Subsidiary of Strategic Minerals Corporation, Niagara Falls, NY.

TA-W-58,429; Agilent Technologies, Inc., Global Infrastructure Org., Colorado Springs, CO.

TA-W-58,555; Penske Logistics, General Motors, Oklahoma City, OK.

TA-W-58,607; Kellwood Company, Morgantown Distribution Ctr., Morgantown, KY.

TA-W-58,620; Bankers Trust Services, Deutsche Bank Services Tennessee, Inc, New York, NY.

TA-W-58,529; Collins and Aikman, Oklahoma City, OK.

TA-W-58,439; Hart and Cooley-Milcor, including Spherion, Inc., Lima, OH “Workers engaged in the production of access doors”

The Department has determined that criterion (1) of section 246 has not been met. Workers at the firm are 50 years of age or older.

TA-W-58,616; Linn Benton Community College, At Hewlett-Packard Company, Corvallis, OR.

The Department has determined that criterion (2) of section 246 has not been met. Workers at the firm possess skills that are easily transferable.

TA-W-58,568; ARC Automotive, Inc., Div. of the Sequa Corp., Camden, AR.

TA-W-58,537; Leach Company, Inc., Federal Signal, Refuse Division, Appleton, WI.

The Department has determined that criterion (3) of Section 246 has not been met. Competition conditions within the workers' industry are not adverse.

None.

I hereby certify that the aforementioned determinations were issued during the month of January 2006. Copies of these determinations are available for inspection in Room C-5311, U.S. Department of Labor, 200 Constitution Avenue, NW., Washington, DC 20210 during normal business hours or will be mailed to persons who write to the above address.

Dated: January 31, 2006.
Erica R. Cantor,
Director, Division of Trade Adjustment Assistance.

[FR Doc. E6-1919 Filed 2-9-06; 8:45 am]

BILLING CODE 4510-30-P